ENVIRONMENTAL PROTECTION AGENCY

40 CFR Part 125

[FRL-6734-8]

Ocean Discharge Criteria: Revisions to Ocean Discharge Criteria Regulations; Notice of Public Meetings

AGENCY: Environmental Protection Agency (EPA).

ACTION: Notice of meetings.

SUMMARY: This document announces that the Environmental Protection Agency (EPA) is inviting all interested members of the public to participate in any or all of a series of public meetings on its plan for revising the Ocean Discharge Criteria regulations and to solicit public input on the plan. These regulations implement section 403 of the Clean Water Act. The EPA is hosting these meetings in five cities between late July and mid-August 2000.

DATES: See Supplementary information section for meeting dates.

ADDRESSES: See SUPPLEMENTARY INFORMATION section for meeting locations.

FOR FURTHER INFORMATION CONTACT: For general information on the meetings, write Marine Pollution Control Branch, ATTN: Ocean Discharge Criteria, US Environmental Protection Agency, MC 4504F, 1200 Pennsylvania Avenue NW, Washington, DC, 20460, or email to: ocean.discharges@epa.gov, or fax to: 202/260-9920. You may also call Macara Lousberg, at telephone 202/260-9109.

SUPPLEMENTARY INFORMATION:

Public Meeting Information

The public meetings will be held on the following dates, times and locations:

1. Tuesday, July 25, 2000, 9 a.m. to 12:00 noon; and 1-4:30 p.m, in Washington, DC—Holiday Inn—National Airport, 2650 Jefferson Davis Highway, Arlington, VA 22202

2. Thursday, July 27, 2000, 1-4:30 p.m. and 7-9 p.m., in Boston, MA—Wyndham Boston Hotel, 89 Broad Street, Boston, MA 02110

3. Tuesday, August 1, 2000, 1-4:30 p.m. and 7-9 p.m., in Portland, OR—Portland Conference Center, (Morrison Room), 300 NE Multnomah Street, Portland, OR 97232

4. Thursday, August 3, 2000, 1-4:30 p.m. and 7-9 p.m., in Los Angeles, CA.—Los Angeles Convention Center, 201 S. Figueroa St., Los Angeles, CA 90015

5. Wednesday, August 9, 2000, 1-4:30 p.m. and 7-9 p.m., in Tampa, FL—Holiday Inn Express—Airport/Stadium, (Lakeside ×4), 4732 N. Dale Mabry Highway, Tampa, FL 33614

Members of the public who plan to attend any of these meetings should write, call, email or fax to the address listed in the FOR FURTHER INFORMATION CONTACT section above. Include your name, affiliation, address and phone number, and whether you wish to make a statement. The Agency will use the information to arrange enough time on the agenda for public comment.

Background

On May 26, 2000, President Clinton signed Executive Order 13158 which among other things explicitly directs EPA to take action to better protect marine and coastal areas. Section 4(f) of the Executive Order on Marine Protected Areas states:

To better protect beaches, coasts, and the marine environment from pollution, the Environmental Protection Agency (EPA), relying upon existing Clean Water Act authorities, shall expeditiously propose new science-based regulations, as necessary, to ensure appropriate levels of protection for the marine environment. Such regulations may include the identification of areas that warrant additional pollution protections and the enhancement of marine water quality standards. The EPA shall consult with the Federal agencies identified in subsection 4(a) of this order, States, territories, tribes, and the public in the development of such new regulations.

EPA believes that revisions to the Ocean Discharge Criteria (also called the section 403 regulations) is the most appropriate approach to implementing the order.

In 1972, Congress passed the Federal Water Pollution Control Act, commonly known as the Clean Water Act (CWA). Under the CWA, point source discharges (i.e., discharges from municipal and industrial facilities) to waters of the United States must obtain a National Pollutant Discharge Elimination System (NPDES) permit, which requires compliance with technology- and water quality-based treatment standards. In addition, because of the complexity and ecological significance of marine ecosystems, discharges to the marine environment beyond the baseline (i.e., the territorial sea, contiguous zone, and oceans) must also comply with section 403 of the CWA (section 403), which specifically addresses impacts from such point sources on marine resources.

The current Ocean Discharge Criteria regulations consider 10 criteria in evaluating NPDES permits for discharges into marine waters. These criteria emphasize an assessment of the impact of an ocean discharge both on the biological community in the area of the discharge and on surrounding biological communities. The current regulations governing section 403 were issued in 1980. Revising these regulations could potentially impact holders of NPDES permits that discharge into ocean waters and anyone who might apply for such a permit in the future.

EPA is holding these five meetings to present EPA's plans for section 403 regulatory revisions in support of the Executive Order. These meetings will provide the interested public an opportunity to comment on EPA's approach for regulatory revisions and to present data or opinions regarding the impacts of ocean discharges under CWA section 403 on the ocean environment.

These five meetings will provide an opportunity for the interested public to comment on EPA's approach to meeting the requirements of the Executive Order. Specifically, the Agency may reconsider revising the existing scientific standards for protecting coastal and ocean waters under section 403 of the Clean Water Act, and proposing a list of Special Aquatic Sites (SAS's). The Agency's actions may also include strengthening the existing regulations regarding permits to discharge into ocean waters under section 403 of the CWA, including specific protection for SAS's in ocean waters.

Dated: July 7, 2000.
Robert H. Wayland III,
Director, Office of Wetlands, Oceans, and Watersheds.

[FR Doc. 00-17751 Filed 7-11-00; 8:45 am]

BILLING CODE 6560-50-P